DEPARTMENT OF DEFENSE

Department of the Army; Corps of Engineers

Intent To Prepare a Supplemental Draft Environmental Impact Statement for a Continuing Authorities Section 205 Flood Damage Reduction Project Along Irondequoit and Allen Creeks at Panorama Valley in the Town of Penfield, Monroe County, NY

AGENCY: Department of the Army, U.S. Army Corps of Engineers, DoD.

ACTION: Notice of intent.

SUMMARY: The U.S. Army Corps of Engineers (Corps) Buffalo District, State and local interests have resumed assessment/evaluation of a flood damage reduction project along Irondequoit and Allen Creeks in Panorama Valley in the Town of Penfield, Monroe County, NY. A Draft and Final Feasibility Report and Environmental Impact Statement (EIS) were previously prepared and coordinated for a project in 1981. The project was deferred due to lack of local funding. The current recommended plan consists of a combination of measures including: levees, floodwalls (setback from the creek, as possible), several non-structural measures, internal drainage measures, and environmental consideration/measures.

ADDRESSES: Correspondence should be addressed to: Mr. Tod Smith, U.S. Army Corps of Engineers, 1776 Niagara Street, Buffalo, NY 14207-3199.

FOR FURTHER INFORMATION CONTACT: Mr. Tod Smith at (716) 879-4175.

SUPPLEMENTARY INFORMATION:

Authority

The proposed project is authorized under Section 205 of the Flood Control Act of 1946, as amended, which provides the Corps authority to assist local sponsors with small flood damage reduction projects.

Proposed Action

The current recommended plan consists of a combination of measures including: levees, floodwalls, several non-structural measures, and internal drainage measures. Natural environmental consideration measures that are included in the plan are: aligning levees and floodwalls setback from the creek, as possible; avoiding any in stream activity between September 1st and June 15th; implementing erosion run-off reduction measures; retaining existing vegetation, as possible; planting replacement and additional riparian and upland vegetation; and other minor stream environmental improvements.

Alternatives

Alternative considerations include: No Action; Non-Structural Measures (Flood Plain Management, Flood Insurance, Relocations, Flood Proofing, etc.); Reservoirs/Wetlands; Diversion Channels; Channelization; Channelization and Berms; and Levee/Floodwalls. Alternatives are assessed/evaluated from engineering, economic, and environmental (physical/natural, social/community, cultural resources) perspectives.

Scoping Process

Resumed study scoping letters were coordinated on August 24, 1999, October 5, 1999, and January 14, 2000. A number of agency and public workshops and meetings have been conducted. A local public meeting was held at the Penfield Town Hall on February 15, 2000.

Significant Issues

The initial public response to the current study was substantial. Many interests indicated the project should be looked at from a watershed perspective and that all interests be involved, and that natural restoration measures should be considered. Many want a watershed development management plan. Some are concerned about project impacts upstream and downstream of the Panorama Valley area. Others do not think that funding should be expended to protect interests which are built in a flood prone area; they think flood prone developments should move or be moved out of the flood prone areas. Flood prone development interest would like to see some form of community development flood protection. Most want to see the natural integrity of the streams maintained or improved, as possible, for fish and some wildlife to be able to continue to utilize and pass through the area.

Scoping Meeting

Since Federal, State, and local interests have been involved with reinitiation of the study and coordination is already being conducted and a local public meeting held; no new/additional formal initial scoping meeting is scheduled.

Availability

It is expected that the Supplemental Draft EIS will be made available to the agencies and public about October 2002.

Luz D. Ortiz,
Army Federal Register Liaison Officer.

[FR Doc. 02-15716 Filed 6-20-02; 8:45 am]

BILLING CODE 3710-GP-M